DEPARTMENT OF COMMERCE

International Trade Administration

[A-580-870]

Certain Oil Country Tubular Goods From the Republic of Korea: Amended Final Results of Antidumping Duty Administrative Review; 2014-2015

AGENCY: Enforcement and Compliance, International Trade Administration, Department of Commerce.

SUMMARY: The Department of Commerce (the Department) is amending its final results of the administrative review of the antidumping duty order on certain oil country tubular goods (OCTG) from the Republic of Korea (Korea). The period of review (POR) is July 18, 2014 through August 31, 2015. The amended final weighted-average dumping margins are listed below in the section entitled, “Amended Final Results.”

DATES: Effective July 10, 2017.

FOR FURTHER INFORMATION CONTACT: Deborah Scott or Victoria Cho, AD/CVD Operations, Office VI, Enforcement and Compliance, International Trade Administration, U.S. Department of Commerce, 1401 Constitution Avenue NW., Washington, DC 20230; telephone: (202) 482-2657 or (202) 482-5075, respectively.

SUPPLEMENTARY INFORMATION:

Background

On April 17, 2017, the Department published the Final Results of the 2014-2015 administrative review in the Federal Register.¹ On April 18, 2017, petitioner Maverick Tube Corporation (Maverick) and respondent NEXTEEL Co., Ltd. (NEXTEEL) timely filed ministerial error allegations concerning the Final Results and requested, pursuant to 19 CFR 351.224, that the Department correct the alleged ministerial errors. On April 24, 2017, both Maverick and NEXTEEL submitted rebuttal comments.

¹ See Certain Oil Country Tubular Goods from the Republic of Korea: Final Results of Antidumping Duty Administrative Review; 2014-2015, 82 FR 18105 (April 17, 2017) (Final Results), and accompanying Memorandum, “Issues and Decision Memorandum for the Final Results of the 2014-2015 Administrative Review of the Antidumping Duty Order on Certain Oil Country Tubular Goods from the Republic of Korea,” dated April 10, 2017 (Issues and Decision Memorandum).

Scope of the Order

The merchandise covered by the order is certain OCTG, which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the order also covers OCTG coupling stock.²

² A full written description of the scope of the order is contained in the Issues and Decision Memorandum. The Department is not making any changes to the scope of the order for these amended final results.

Amended Final Results

Section 751(h) of the Tariff Act of 1930, as amended (the Act), defines “ministerial errors” as including “errors in addition, subtraction, or other arithmetic function, clerical errors resulting from inaccurate copying, duplication, or the like, and any other type of unintentional error which the administering authority considers ministerial.” ³ After analyzing parties' comments, we have determined, in accordance with section 751(h) of the Act and 19 CFR 351.224(f), that we made certain ministerial errors in the Final Results with respect to our treatment of certain sales expenses for NEXTEEL.⁴ For a detailed discussion of these ministerial errors, as well as the Department's analysis of these errors, see the Ministerial Error Memorandum.

³ See also 19 CFR 351.224(f).

⁴ See Ministerial Error Memorandum at Comment 2.

In accordance with section 751(h) of the Act and 19 CFR 351.224(e), we are amending the Final Results of this administrative review of OCTG from Korea. The rate for the companies not selected for individual examination is equal to the simple average ⁵ of the weighted-average dumping margin calculated for NEXTEEL in these amended final results and the weigthed-average dumping margin calculated for respondent SeAH Steel Corporation (SeAH) (i.e., 2.76 percent) in the Final Results.⁶ The dumping margins calculated for these amended final results are as follows:

⁵ We calculated the rate for the companies not selected for individual examination using a simple average of the dumping margins calculated for the mandatory respondents because complete publicly ranged sales data were not available. See Final Results, 82 FR at 18106.

⁶ Id.

Exporter or producer | Weighted- average dumping margin (percent)
NEXTEEL Co., Ltd | 29.76
Non-examined companies ⁷ | 16.26

Disclosure

⁷ See Appendix I for a full list of these companies.

The Department intends to disclose the calculations performed for these amended final results of review within five days of the date of publication of this notice in the Federal Register, in accordance with 19 CFR 351.224(b).

Assessment Rates

Pursuant to section 751(a)(2)(C) of the Act and 19 CFR 351.212(b), the Department shall determine, and CBP shall assess, antidumping duties on all appropriate entries of subject merchandise covered by this review. The Department intends to issue assessment instructions to CBP 15 days after the date of publication of these amended final results in the Federal Register.

Where the respondent reported reliable entered values, we calculated importer- (or customer-) specific ad valorem rates by aggregating the dumping margins calculated for all U.S. sales to each importer (or customer) and dividing this amount by the total entered value of the sales to each importer (or customer).⁸ Where the Department calculated a weighted-average dumping margin by dividing the total amount of dumping for reviewed sales to that party by the total sales quantity associated with those transactions, the Department will direct CBP to assess importer- (or customer-) specific assessment rates based on the resulting per-unit rates.⁹ Where an importer- (or customer-) specific ad valorem or per-unit rate is greater than de minimis (i.e., 0.50 percent), the Department will instruct CBP to collect the appropriate duties at the time of liquidation.¹⁰ Where an importer- (or customer-) specific ad valorem or per-unit rate is zero or de minimis, the Department will instruct CBP to liquidate appropriate entries without regard to antidumping duties.¹¹

⁸ See 19 CFR 351.212(b)(1).

⁹ Id.

¹⁰ Id.

¹¹ See 19 CFR 351.106(c)(2).

For the companies which were not selected for individual examination, we will assign an assessment rate based on the methodology described in the section “Amended Final Results,” above.

Consistent with the Department's assessment practice, for entries of subject merchandise during the POR produced by SeAH, NEXTEEL, or the non-examined companies for which the producer did not know that its merchandise was destined for the United States, we will instruct CBP to liquidate unreviewed entries at the all-others rate if there is no rate for the intermediate company(ies) involved in the transaction.¹²

¹² For a full discussion of this practice, see Antidumping and Countervailing Duty Proceedings: Assessment of Antidumping Duties, 68 FR 23954 (May 6, 2003).

Cash Deposit Requirements

The following cash deposit requirements will be effective retroactively for all shipments of subject merchandise entered, or withdrawn from warehouse, for consumption on or after the April 17, 2017, the date of publication of the Final Results of this administrative review, as provided for by section 751(a)(2)(C) of the Act: (1) The cash deposit rates for the companies listed in these amended final results will be equal to the weighted-average dumping margins established in the section “Amended Final Results,” above; (2) for merchandise exported by producers or exporters not covered in this review but covered in a prior segment of this proceeding, the cash deposit rate will continue to be the company-specific rate published for the most recently completed segment in which the company was reviewed; (3) if the exporter is not a firm covered in this review or the original less-than-fair-value (LTFV) investigation, but the producer is, the cash deposit rate will be the rate established for the most recently completed segment of this proceeding for the producer of the subject merchandise; and (4) the cash deposit rate for all other producers or exporters will continue to be 5.24 percent,¹³ the all-others rate established in the LTFV investigation. These cash deposit requirements, when imposed, shall remain in effect until further notice.

¹³ See Certain Oil Country Tubular Goods from the Republic of Korea: Notice of Court Decision Not in Harmony With Final Determination, 81 FR 59603 (August 30, 2016).

Notification to Importers

This notice serves as a final reminder to importers of their responsibility under 19 CFR 351.402(f)(2) to file a certificate regarding the reimbursement of antidumping duties prior to liquidation of the relevant entries during this POR. Failure to comply with this requirement could result in the Department's presumption that reimbursement of antidumping duties occurred and the subsequent assessment of double antidumping duties.

Notification to Interested Parties Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

These amended final results and notice are issued and published in accordance with sections 751(h) and 777(i) of the Act and 19 CFR 351.224(e).

Dated: July 3, 2017.
Gary Taverman,
Deputy Assistant Secretary for Antidumping and Countervailing Duty Operations, performing the non-exclusive functions and duties of the Assistant Secretary for Enforcement and Compliance.

Appendix I—List of Companies Not Individually Examined

A.R. Williams Materials

AJU Besteel Co., Ltd.

AK Steel

BDP International

Cantak Corporation

Daewoo International Corporation

Dong-A Steel Co., Ltd.

Dong Yang Steel Pipe

Dongbu Incheon Steel

Dongbu Steel Co., Ltd.

Dongkuk S and C

DSEC

EEW Korea

Erndtebruecker Eisenwerk and Company

GS Global

H K Steel

Hansol Metal

HG Tubulars Canada Ltd.

Husteel Co., Ltd.

Hyundai HYSCO ¹⁴

¹⁴ On September 21, 2016, the Department published the final results of a changed circumstances review with respect to OCTG from Korea, finding that Hyundai Steel is the successor-in-interest to Hyundai HYSCO for purposes of determining antidumping duty cash deposits and liabilities. See Notice of Final Results of Antidumping Duty Changed Circumstances Review: Oil Country Tubular Goods from the Republic of Korea, 81 FR 64873 (September 21, 2016). Hyundai Steel Company is also known as Hyundai Steel Corporation and Hyundai Steel Co. Ltd.

Hyundai HYSCO Co., Ltd.

Hyundai Steel Company

Hyundai Steel Co., Ltd.

ILJIN Steel Corporation

Kukbo Logix

Kukje Steel

Kumkang Industrial Co., Ltd.

McJunkin Red Man Tubular

NEXTEEL Q&T

Nippon Arwwl and Aumikin Vuaan Korea Co., Ltd.

Phocennee

POSCO Processing and Acy Service

Samson

Sedae Entertech

Steel Canada

Steel Flower

Steelpia

Sung Jin

TGS Pipe

Toyota Tsusho Corporation

UNI Global Logistics

Yonghyun Base Materials

[FR Doc. 2017-14384 Filed 7-7-17; 8:45 am]

BILLING CODE 3510-DS-P